SECURITIES AND EXCHANGE COMMISSION

[Release No. 34-52752A; File No. SR-NASD-2004-044]

Self-Regulatory Organizations; National Association of Securities Dealers, Inc.; Notice of Filing of Proposed Rule Change and Amendments Nos. 1 and 2 Thereto Relating to Short Sale Delivery Requirements

November 17, 2005.

Correction

In FR Document No. E5-6306, beginning on page 69614 for Wednesday, November 16, 2005, in the first sentence of the first paragraph of the Notice the date should read March 10, 2004.

For the Commission, by the Division of Market Regulation, pursuant to delegated authority.¹
¹ 17 CFR 200.30-3(a)(12).
Jonathan G. Katz,
Secretary.

[FR Doc. E5-6457 Filed 11-22-05; 8:45 am]

BILLING CODE 8010-01-P